DEPARTMENT OF VETERANS AFFAIRS

Geriatrics and Gerontology Advisory Committee; Notice of Meeting

The Department of Veterans Affairs (VA) gives notice under Pub. L. 92-463 (Federal Advisory Committee Act) that a meeting of the Geriatrics and Gerontology Advisory Committee (GGAC) will be held on May 3, 2005, in the Federal Room at Hotel Washington, 515 15th Street, NW., Washington, DC. The meeting will convene at 8:30 a.m. and conclude at 5 p.m. The meeting is open to the public.

The purpose of the Committee is to provide advice to the Secretary of Veterans Affairs and the Under Secretary for Health on all matters pertaining to geriatrics and gerontology by assessing the capability of VA health care facilities to meet the medical, psychological and social needs of older veterans and by evaluating VA facilities designated as Geriatric Research, Education and Clinical Centers (GRECCs).

The meeting will feature presentations on VA research initiatives in areas that affect aging veterans, pilot programs authorized by the Millennium Act in assisting living, the White House Conference on Aging, and performance and oversight of VA Geriatric Research Education and Clinical Centers. During the afternoon portion of the meeting the Committee will discuss strategic planning activities, potential site visits, and future meeting dates.

No time will be allocated at this meeting for receiving oral presentations from the public. Interested parties can provide written comments for review by the Committee in advance of the meeting to Ms. Jacqueline Holmes, Geriatrics and Extended Care Strategic Healthcare Group (114), Department of Veterans Affairs, 810 Vermont Avenue, NW., Washington, DC 20420. Individuals who wish to attend the meeting should contact Ms. Jacqueline Holmes at (202) 273-8539.

Dated: April 8, 2005.
By direction of the Secretary
E. Philip Riggin,
Committee Management Officer.

[FR Doc. 05-7733 Filed 4-18-05; 8:45 am]

BILLING CODE 8320-01-M